DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluation of the Addiction Technology Transfer Center Program (New)

The Substance Abuse and Mental Health Administration's (SAMHSA) Center for Substance Abuse Treatment (CSAT) intends to conduct an evaluation of its Addiction Technology Transfer Centers (ATTCs). The goal underlying the training and education opportunities provided through the ATTCs is to enhance the competencies of professionals in a variety of disciplines to address the clinical needs of individuals with substance abuse problems using research-based curricula and training materials through both traditional and non-traditional technologies.

The ATTCs disseminate current health services research from the National Institute on Drug Abuse (NIDA), National Institute on Alcohol Abuse and Alcoholism (NIAAA), National Institute of Mental Health (NIMH), Agency for Health Care Policy and Research (ACHPR), National Institute of Justice (NIJ), and other sources and applied knowledge development activities from SAMHSA using innovative technologies by developing and updating state-of-the-art research-based curricula and developing faculty and trainers. Participants in ATTC trainings are self-identified and participate in either academic courses or continuing education/professional development trainings. Academic courses are offered at all levels. Continuing education/professional development trainings are designed to meet identified needs of counselors and other professionals who work with individuals with substance abuse problems.

Both a process and an outcome evaluation will be conducted. The process evaluation will describe the training and education needs of pre-service and currently practicing professionals, the types of training events that students/trainees receive through the ATTCs, and student/trainee satifaction with services. The outcome evaluation will focus on specific changes in clinical practice made by trainees as a result of knowledge received.

Analysis of this information will assist CSAT in documenting the numbers and types of participants in ATTC education/training offerings, describing the extent to which participants improve in their clinical competency, and which method is most effective in disseminating knowledge to the various audiences. This type of information is crucial to support CSAT in complying with GPRA reporting requirements and will inform future development of knowledge dissemination activities.

The evaluation design for students and trainees will be a description of each course/training event, and a pre-post design that collects identical information at initiation of ATTC courses/trainings, at the completion to the course/training, and again after 3 months. This time frame is necessary to allow students/trainees the opportunity to implement changes in clinical practice. In addition, the evaluation will collect satisfaction measures after each course/training event. A formal comparison group is not available.

The 13 ATTCs anticipate providing courses/trainings for 12,000 students/trainees per year over the next 2 years. Data collection burden will be borne primarily by the ATTC faculty for course descriptions (15 minutes) and students/trainees for pre and post and follow-up (30 minutes for each). ATTC staff will conduct follow-up mailings and/or interviews. The chart below summarizes the annualized burden for this project over a two-year period.

Respondent type | Number of respondents | Average responses/ respondent | Average time/response (hours) | Annual burden (hours)
Students/trainees | 12,000 | 3 | .50 | 18,000
Faculty/trainers | 195 | 1 | .25 | 49
ATTC summary reports | 13 | 4 | 8 | 416
Total | 12,208 |  |  | 18,465

Send comments to Nancy Pearce, SAMHSA Reports Clearance Officer, Room 16-105, Parklawn Building, 5600 Fishers Lane, Rockville, MD 20857. Written comments should be received within 60 days of this notice.

Dated: February 23, 2000.
Richard Kopanda,
Executive Officer, SAMHSA.

[FR Doc. 00-4862 Filed 2-29-00; 8:45 am]

BILLING CODE 4162-20-P